DEPARTMENT OF THE INTERIOR

National Park Service

[N6906; NPS-WASO-NAGPRA-NPS0041936; PPWOCRADN0-PCU00RP14.R50000]

Notice of Intended Repatriation: Pennsylvania Historical and Museum Commission, State Museum of Pennsylvania, Harrisburg, PA

AGENCY: National Park Service, Interior.

ACTION: Notice.

SUMMARY: In accordance with the Native American Graves Protection and Repatriation Act (NAGPRA), The State Museum of Pennsylvania intends to repatriate certain cultural items that meet the definition of unassociated funerary objects and that have a cultural affiliation with the Indian Tribes or Native Hawaiian organizations in this notice.

DATES: Repatriation of the cultural items in this notice may occur on or after March 4, 2026.

ADDRESSES: Send additional, written requests for repatriation of the cultural items in this notice to Cherilyn Gilligan, PHMC, State Historic Preservation Office, 400 North Street, Floor 2, Harrisburg, PA 17120, email phmcnagpra@pa.gov.

SUPPLEMENTARY INFORMATION: This notice is published as part of the National Park Service's administrative responsibilities under NAGPRA. The determinations in this notice are the sole responsibility of The State Museum of Pennsylvania, and additional information on the determinations in this notice, including the results of consultation, can be found in the summary or related records. The National Park Service is not responsible for the determinations in this notice.

Abstract of Information Available

A total of 11 lots of cultural items have been requested for repatriation. Museum records do not indicate the use of hazardous substances on any of these cultural items.

In the late 19th or early 20th century one lot of unassociated funerary object were removed from various locations in Berks County, PA by Henry K. Deisher. The unassociated funerary objects are personal adornments, pipes, groundstone, chipped stone, and a metal tool. These items have been housed at The State Museum of Pennsylvania since 1917 under accession 60.26.

In 1951 one lot of unassociated funerary objects were removed from Pemberton Family Cemetery (36Bu179) in Bucks County, PA by State Museum of Pennsylvania. The unassociated funerary objects are a gunflint and metal trade items. These items have been housed at The State Museum of Pennsylvania since 1951 under accession 84.24.

In the mid-20th century one unassociated funerary object was removed from an unknown location in Bucks, Chester, or Lancaster County, PA by Society for Pennsylvania Archaeology, Lenape Chapter 12. The unassociated funerary object is a pipe. These items have been housed at The State Museum of Pennsylvania since 2004 under non-site number 36PA0000/210 and accession 2004.64.

In the late 19th or early 20th century one lot of unassociated funerary objects were removed from the Lehigh Gap site in Carbon County, PA by Henry K. Deisher. The unassociated funerary objects are personal adornments. These items have been housed at The State Museum of Pennsylvania since 1917 under accession 60.26. An unknown number of items may be missing from this collection and PHMC staff continue to look for them.

In 1931, one lot of unassociated funerary objects were removed from Shawnee on Delaware in Monroe County, PA by Max Schrabisch. The unassociated funerary objects are pottery. These items have been housed at The State Museum of Pennsylvania since 1931 under accession 60.22. 1 object was identified as missing from this collection in 2005 and it remains missing. PHMC staff continue to look for this object. In addition to the requesting Nations, this item has a connection to Absentee Shawnee Tribe of Indians of Oklahoma; Eastern Shawnee Tribe of Oklahoma; and Shawnee Tribe.

From 1961-1965, one lot of unassociated funerary objects were removed from Michaels site (36Mr7) in Monroe County, PA by Society for Pennsylvania Archaeology, Forks of the Delaware Chapter 14. The unassociated funerary objects are personal adornments, a pipe, groundstone, chipped stone, and pottery. These items have been housed at The State Museum of Pennsylvania since 2013 under accession 2014.53. In addition to the requesting Nations, these items have a connection to Absentee Shawnee Tribe of Indians of Oklahoma; Eastern Shawnee Tribe of Oklahoma; and Shawnee Tribe.

In 1931 one unassociated funerary object was removed from a cave in Monroe County, PA by M.P. Brong. The unassociated funerary object is pottery. This item has been housed at The State Museum of Pennsylvania since c. 1931 under accession 2025.68.

In the late 19th or early 20th century one lot of unassociated funerary objects were removed from various locations in Northampton County, PA by Henry K. Deisher. The unassociated funerary objects are chipped stone, metal items, and a leather pouch. These items have been housed at The State Museum of Pennsylvania since 1917 under accession 60.26. An unknown number of items may be missing from this collection and PHMC staff continue to look for them.

From 1959-1967 one lot of unassociated funerary objects were removed from Sampson's Field No. 1 site (36Nm34) in Northampton County, PA by Society for Pennsylvania Archaeology, Forks of the Delaware Chapter 14. The unassociated funerary objects are personal adornments. These items have been housed at The State Museum of Pennsylvania since 2013 under accession 2014.53.

In c. 1931 one lot of unassociated funerary objects were removed from various locations in Wayne County, PA by Max Schrabisch. The unassociated funerary objects are pipes, pottery, faunal remains, groundstone, and chipped stone. These items have been housed at The State Museum of Pennsylvania since 1931 under accession 60.22. An unknown number of items may be missing from this collection and PHMC staff continue to look for them.

In the 19th century one lot of unassociated funerary objects were removed from the Wyoming Valley region of Pennsylvania, likely in Luzerne County, by Steuben Jenkins. The unassociated funerary objects are pipes, pottery, personal adornments, groundstone, modified faunal remains, and chipped stone. These items have been housed at The State Museum of Pennsylvania since 1923 under accession 72.115. An unknown number of items may be missing from this collection and PHMC staff continue to look for them. In addition to the requesting Nations, these items have a connection to Absentee-Shawnee Tribe of Indians of Oklahoma; Cayuga Nation; Eastern Shawnee Tribe of Oklahoma; Oneida Indian Nation; Oneida Nation; Onondaga Nation; Saint Regis Mohawk Tribe; Seneca Nation of Indians; Seneca-Cayuga Nation; Shawnee Tribe; Tonawanda Band of Seneca; and the Tuscarora Nation.

Determinations

The State Museum of Pennsylvania has determined that:

• The 11 lots unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Delaware Nation, Oklahoma; Delaware Tribe of Indians; and the Stockbridge Munsee Community, Wisconsin.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 4, 2026. If competing requests for repatriation are received, The State Museum of Pennsylvania must determine the most appropriate requestor prior to repatriation. Requests for joint repatriation of the cultural items are considered a single request and not competing requests. The State Museum of Pennsylvania is responsible for sending a copy of this notice to the Indian Tribes and Native Hawaiian organizations identified in this notice and to any other consulting parties.

Authority: Native American Graves Protection and Repatriation Act, 25 U.S.C. 3004 and the implementing regulations, 43 CFR 10.9.

Dated: January 22, 2026.
Melanie O'Brien,
Manager, National NAGPRA Program.

[FR Doc. 2026-02021 Filed 1-30-26; 8:45 am]

BILLING CODE 4312-52-P